ENVIRONMENTAL PROTECTION AGENCY

[FRL OP-OFA-098]

Environmental Impact Statements; Notice of Availability

Responsible Agency: Office of Federal Activities, General Information 202-564-5632 or https://www.epa.gov/nepa.

Weekly receipt of Environmental Impact Statements (EIS)

Filed November 17, 2023 10 a.m. EST Through November 27, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230164, Final, FAA, ID, Adoption—Airspace Optimization for Readiness for Mountain Home Air Force Base, Contact: Lonnie Covalt 206-231-3998.

The Federal Aviation Administration (FAA) has adopted the United States Air Force's Final EIS No. 20230035 filed 02/22/2023 with the Environmental Protection Agency. The FAA was a cooperating agency on this project. Therefore, republication of the document is not necessary under section 1506.3(b)(2) of the CEQ regulations.

EIS No. 20230165, Draft, USFS, WY, Dell Creek and Forest Park Elk Feedgrounds: Long-Term Special Use Permits, Comment Period Ends: 01/16/2024, Contact: Randall Griebel 307-739-5537.

EIS No. 20230166, Draft, NRCS, ND, Cart Creek Site 1 of the North Branch Park River Watershed Plan, Comment Period Ends: 01/26/2024, Contact: Christi Fisher 701-530-2091.

EIS No. 20230167, Final Supplement, USFS, NAT, Nationwide Aerial Application of Fire Retardant on National Forest System Lands, Review Period Ends: 01/02/2024, Contact: Laura Conway 406-802-4317.

Dated: November 27, 2023.
Julie Smith,
Acting Director, NEPA Compliance Division, Office of Federal Activities.

[FR Doc. 2023-26426 Filed 11-30-23; 8:45 am]

BILLING CODE 6560-50-P